DEPARTMENT OF AGRICULTURE

Forest Service

Pacific Northwest Region; Oregon; Land Management Plan Amendment; Forest Management Direction for Large Diameter Trees in Eastern Oregon

AGENCY: Forest Service, USDA.

ACTION: Notice to initiate a land management plan amendment and notice of availability.

SUMMARY: The Pacific Northwest Region of the Forest Service has prepared a Preliminary Environmental Assessment (EA) for Forest Management Direction for Large Diameter Trees in Eastern Oregon. The proposal would amend the land management plans for the Deschutes, Fremont-Winema, Malheur, Ochoco, Umatilla, and Wallowa-Whitman National Forests in Oregon. This notice also provides information on how to comment on the Preliminary EA.

DATES: Comments concerning the scope of the analysis must be received by September 10, 2020. The final EA is expected September 2020.

ADDRESSES: Individuals and entities are encouraged to submit comments via webform at https://cara.ecosystem-management.org/Public/CommentInput?project=58050. Comments may also be sent via email to SM.FS.EScreens21@usda.gov. Hardcopy letters must be submitted to the following address: Shane Jeffries, Forest Supervisor, Ochoco National Forest, 3160 NE Third Street, Prineville, OR 97754. For those submitting hand-delivered comments, please call 541-416-6500 to make arrangements.

FOR FURTHER INFORMATION CONTACT: Emily Platt, Team Leader, at SM.FS.EScreens21@usda.gov or at 541-416-6500. Individuals who use telecommunication devices for the deaf (TDD) may call the Federal Information Relay Service (FIRS) at 1-800-877-8339 between 8:00 a.m. and 8:00 p.m., Eastern Time, Monday through Friday.

SUPPLEMENTARY INFORMATION:

Background

In 1995, the Forest Service adopted the Eastside Screens, which amended land management plans for national forests outside of the range of the northern spotted owl in Oregon and Washington. The Eastside Screens include a limit on the harvest of trees equal to or greater than 21-inches diameter at breast-height (dbh) where late and old structural stage forests are below the historic range of variability.

Since the issuance of the Eastside Screens, forest conditions have changed, new science has emerged, and land management priorities have shifted to emphasize forest restoration and the mitigation of wildfire impacts. By adapting the 21-inch standard to reflect learning over the past 25 years, the Agency would streamline restoration of forests in eastern Oregon in order to create landscapes that withstand and recover more quickly from drought, wildfire, and other disturbances.

Purpose and Need for Action

The purpose of this proposal is to analyze a science-based, contemporary alternative to the 21-inch standard in the Eastside Screens. Adapting the standard to incorporate science and 25 years of learning would enable managers to more effectively restore forestlands in eastern Oregon.

Proposed Action

The Forest Service is proposing to replace the 21” standard with a guideline that emphasizes recruitment of old trees and large trees. An adaptive management component is also assessed in this analysis.

Responsible Official

The Responsible Official for this amendment is Ochoco Forest Supervisor, Shane Jeffries.

Nature of Decision To Be Made

Given the purpose and need of the project, the Responsible Official will review alternatives, public comments, and consider the environmental consequences to decide whether to prepare a finding of no significant impact or prepare an environmental impact statement. If a finding of no significant impact is appropriate, the Responsible Official will decide whether to select the proposed action, another alternative, or a combination of alternatives.

Substantive Requirements

When proposing a Forest Plan amendment, the 2012 Planning Rule (36 CFR 219), as amended, requires the responsible official to identify the substantive requirements of the rule that are likely to be directly related to the amendment (36 CFR 219.13(b)(5)). The substantive requirements that are likely to be directly related to the proposed amendments are: (1) 36 CFR 219.8(a)(1)(iv) System drivers, including dominant ecological processes, disturbance regimes, and stressors, such as natural succession, wildland fire, invasive species, and climate change; and the ability of terrestrial and aquatic ecosystems on the plan area to adapt to change; (2) 36 CFR 219.8(a)(1)(v) Wildland fire and opportunities to restore fire adapted ecosystems; and (3) 219.9(b)(1) The responsible official shall determine whether or not the plan components provide the ecological conditions necessary to: Contribute to the recovery of federally listed threatened and endangered species, conserve proposed and candidate species, and maintain a viable population of each species of conservation concern within the plan area.

Comment and Objection Information

The Preliminary EA and other related documents are available for comment on the project website at https://www.fs.usda.gov/project/?project=58050. Additional information regarding this proposal can found at https://go.usa.gov/xvV4X. As provided for at 36 CFR 219.16, the responsible official has combined the notifications for initiating the plan amendment and inviting comments on the proposed plan amendment and alternatives.

This EA is subject to Forest Service regulation 36 CFR 219, Subpart B, known as the administrative review, or objection, process. Only individuals or entities who submit specific written comments during the designated comment period will be eligible to participate in the objection process. Specific written comments should be within the scope of the proposed action, have a direct relationship to the proposed action, and include supporting reasons for the Responsible Official to consider. Comments submitted anonymously will be accepted and considered but will not meet the requirements to be eligible for administrative review. Comments received in response to this solicitation, including names (and addresses, if included) of those who comment, will be part of the public record for this proposed action.

Allen Rowley,
Associate Deputy Chief, National Forest System.

[FR Doc. 2020-17430 Filed 8-10-20; 8:45 am]

BILLING CODE 3411-15-P